DEPARTMENT OF STATE

[Public Notice 5996]

Issuance of a Presidential Permit Authorizing the Greater Yuma Port Authority To Construct, Operate, and Maintain a Livestock Border Crossing Near San Luis, Arizona, at the International Boundary Between the United States and Mexico

SUMMARY: The Department of State has issued a Presidential permit, effective November 16, 2007, authorizing the Greater Yuma Port Authority to construct, operate, and maintain a livestock border crossing near San Luis, Arizona, at the international boundary between the United States and Mexico. In making this determination, the Department consulted with other federal agencies, as required by Executive Order 11423, as amended.

FOR FURTHER INFORMATION CONTACT: Mr. Daniel Darrach, U.S.-Mexico Border Affairs Coordinator, via e-mail at WHA-BorderAffairs@state.gov; by phone at 202-647-9894 or by mail at WHA/MEX, Room 4258, Department of State, 2201 C St., NW., Washington, DC 20520.

SUPPLEMENTARY INFORMATION: Following is the text of the issued permit:

By virtue of the authority vested in me as Under Secretary of State for Economic, Energy and Agricultural Affairs, pursuant to Department of State Delegation number 118-2 from the Secretary of State dated January 26, 2006, to exercise, to the extent authorized by law, all authorities vested in the Secretary of State, including those authorities under Executive Order 11423, 33 FR 11741 (1968), as amended by Executive Order 12847 of May 17, 1993, 58 FR. 29511 (1993), Executive Order 13284 of January 23, 2003, 68 FR 4075 (2003), and Executive Order 13337 of April 30, 2004, 69 FR 25299 (2004); having considered the environmental effects of the proposed action in accordance with the National Environmental Policy Act of 1969 (83 Stat. 852; 42 U.S.C. § 4321, et seq.) and other statutes relating to environmental concerns; having considered the proposed action in accordance with the National Historic Preservation Act (80 Stat. 917, 16 U.S.C. § 470f, et seq.); and having requested and received the views of various of the federal departments and other interested persons; I hereby grant permission, subject to the conditions herein set forth, to the Greater Yuma Port Authority (GYPA, hereinafter referred to as the “permittee”), to construct, operate, and maintain a new livestock border crossing (hereinafter referred to as “San Luis Livestock Crossing”), 2,500 feet (approximately half a mile) east of the existing San Luis cattle crossing on the westerly border of the State of Arizona and the Mexican State of Sonora near the cities of San Luis, Arizona and San Luis Rio Colorado, Sonora, Mexico.

The term “facilities” as used in this permit means the lane or lanes leading to the livestock crossing, their approaches and any land, structure or installations appurtenant thereto. These facilities are the subject of a Finding of No Significant Impact, FONSI, approved by the Acting Director of the Office of Mexican Affairs in the Department of State on July 27, 2007, 72 FR 43314-43316 (August 3, 2007) .

The term “United States facilities” as used in this permit means that part of the facilities in the United States.

This permit is subject to the following conditions:

Article 1. The United States facilities herein described, and all aspects of their operation, shall be subject to all the conditions, provisions, and requirements of this permit and any amendment thereof. This permit may be terminated at will by the Secretary of State or the Secretary's delegate or may be amended by the Secretary of State or the Secretary's delegate at will or upon proper application therefor. The permittee shall make no substantial change in the location of the livestock crossing facilities or in the operation authorized by this permit until such changes have been approved by the Secretary of State or the Secretary's delegate.

Article 2. The standards for, and the manner of, the construction, operation, and maintenance of the United States facilities shall be subject to inspection and approval by the representatives of appropriate federal, state and local agencies. The permittee shall allow duly authorized officers and employees of such agencies free and unrestricted access to said facilities in the performance of their official duties.

Article 3. The permittee shall comply with all applicable federal, state, and local laws and regulations regarding the construction, operation, and maintenance of the United States facilities, and with all applicable industrial codes. The permittee shall obtain the requisite permits from state and local government entities and relevant federal agencies.

Article 4. Upon the termination, revocation, or surrender of this permit, and unless otherwise agreed by the Secretary of State or the Secretary's delegate, the United States facilities in the immediate vicinity of the international boundary shall be removed by and at the expense of the permittee within such time as the Secretary of State or the Secretary's delegate may specify, and upon failure of the permittee to remove this portion of the United States facilities as ordered, the Secretary of State or the Secretary's delegate may direct that possession of such facilities be taken and that they be removed at the expense of the permittee; and the permittee shall have no claim for damages by reason of such possession or removal.

Article 5. This permit and the operation of the United States facilities hereunder shall be subject to the limitations, terms, and conditions issued by any competent agency of the United States Government, including but not limited to the Department of Homeland Security (DHS), the Federal Highway Administration (FHWA), and the United States Section of the International Boundary and Water Commission (IBWC). This permit shall continue in force and effect only so long as the permittee shall continue the operations hereby authorized in accordance with such limitations, terms and conditions.

Article 6. Any transfer of ownership or control of the United States facilities or any part thereof shall be immediately notified in writing to the United States Department of State (the “Department”) for approval, including identification of the transferee. In the event of such transfer of ownership or control, the permit shall remain in force and the United States facilities shall be subject to all the conditions, permissions, and requirements of this permit and any amendments thereof.

Article 7. (1) The permittee shall acquire such right-of-way grants or easements, permits, and other authorizations as may become necessary and appropriate.

(2) The permittee shall maintain the United States facilities and every part thereof in a condition of good repair for their safe operation.

Article 8. (1) The permittee shall take all appropriate measures to prevent or mitigate adverse environmental impacts or disruption of significant archeological resources in connection with the construction, operation and maintenance of the United States facilities, including those mitigation measures set forth in the Finding of No Significant Impact (FONSI) approved by the Department on July 27, 2007, 72 Fed. Reg. 43314-43316 (August 3, 2007).

(2) Before beginning construction the permittee shall obtain the concurrence of the IBWC.

Article 9. The permittee shall file with the appropriate agencies of the United States Government such statements or reports under oath with respect to the United States facilities, and/or permittee's actions in connection therewith, as are now or may hereafter be required under any laws or regulations of the United States Government or its agencies.

Article 10. The permittee shall not begin construction until the Department has provided notification to the permittee that it has completed its exchange of diplomatic notes with the Government of Mexico regarding authorization of construction. The permittee shall provide written notice to the Department at such time as the construction authorized by this permit is begun, and again at such time as construction is completed, interrupted or discontinued.

In witness whereof, I, Reuben Jeffery III, Under Secretary of State for Economic, Energy and Agricultural Affairs of the United States, have hereunto set my hand this 31st day of October, 2007, in the City of Washington, District of Columbia.

End Permit text.

Dated: November 20, 2007.
Ian G. Brownlee,
Acting Director, Office of Mexican Affairs, Department of State.

[FR Doc. E7-23085 Filed 11-26-07; 8:45 am]

BILLING CODE 4710-29-P